DEPARTMENT OF HEALTH AND HUMAN SERVICES

Health Resources and Services Administration

Agency Information Collection Activities: Proposed Collection: Public Comment Request; Information Collection Request Title: CAREWare Customer Satisfaction and Usage Survey

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than December 19, 2023.

ADDRESSES: Submit your comments to paperwork@hrsa.gov or mail the HRSA Information Collection Clearance Officer, Room 14N39, 5600 Fishers Lane, Rockville, MD 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: CAREWare Customer Satisfaction and Usage Survey, OMB No. 0906-xxxx-New.

Abstract: HRSA developed CAREWare, a software application first released in 2000, to help meet the data collection and reporting needs of Ryan White HIV/AIDS Program (RWHAP) grant recipients. The secure software is a free, electronic health and social support services information system for RWHAP grant recipients and their subrecipients to assist in the data requirement submissions that inform the development of the Ryan White HIV/AIDS Program Service Report, the AIDS Drug Assistance Program Data Report, the Ending the HIV Epidemic Initiative Triannual Report, and the voluntary Clinical Quality Measures Performance Measures. Over time, the software has evolved into a comprehensive health information system and is now the source of more than half of all the RWHAP client-level data received from recipients and subrecipients of RWHAP grant funding. CAREWare software manages HIV clinical and support service data from more than 360,000 client records in 48 states; Washington, DC; Puerto Rico; and the U.S. Virgin Islands.

The CAREWare software application contains customizable modules for tracking demographic information, services, medications, laboratory test results, immunization history, diagnoses (updated with International Classification of Diseases, Tenth Revision codes), referrals to outside agencies, and an appointment scheduler. There is a custom report generator and a performance measures module that supports quality of care initiatives at the provider level. The software also has several ways to import data from third-party sources, including commercial labs and other electronic health records (using both Health Level Seven and simple Comma Separated Value-formatted files), HIV surveillance systems, and for RWHAP Part B AIDS Drug Assistance Programs, pharmacy benefit programs. The software and user support materials can be accessed here: https://hab.hrsa.gov/program-grants-management/careware. Finally, CAREWare supports users through an experienced helpdesk with ongoing software maintenance issues and enhancements to the user interface.

HRSA is proposing a customer satisfaction survey to gather feedback from CAREWare users regarding their experiences and satisfaction with the software platform and to obtain suggestions for improvement.

Need and Proposed Use of the Information: HRSA aims to understand CAREWare users' needs and concerns by collecting information on current software features and inquiring about opportunities to improve the user experience and product features. The survey will address the software's functionality and how well it meets the data collection, reporting, and quality management needs of the CAREWare user. The feedback will enable HRSA to assess, benchmark, and improve customer satisfaction with RWHAP grant recipients.

Likely Respondents: RWHAP recipients and providers who use CAREWare to produce data files for the Ryan White HIV/AIDS Program Service Report, the AIDS Drug Assistance Program Data Report, the Ending the HIV Epidemic Initiative Triannual Report, and the voluntary Clinical Quality Measures performance measures module.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:

Form name | Number of respondents | Number of responses per respondent | Total responses | Average burden per response (in hours) | Total burden hours
CAREWare User Survey | 1,160 | 1 | 1,160 | 2 | 2,320
Total | 1,160 | 1 | 1,160 | 2 | 2,320

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2023-23257 Filed 10-19-23; 8:45 am]

BILLING CODE 4165-15-P